FEDERAL HOUSING FINANCE AGENCY

[No. 2010-N-04]

Federal Home Loan Bank Members Selected for Community Support Review

AGENCY: Federal Housing Finance Agency.

ACTION: Notice.

SUMMARY: The Federal Housing Finance Agency (FHFA) is announcing the Federal Home Loan Bank (Bank) members it has selected for the 2008-09 eighth round review cycle under the FHFA's community support requirements regulation. This notice also prescribes the deadline by which Bank members selected for review must submit Community Support Statements to FHFA.

DATES: Bank members selected for the review cycle under the FHFA's community support requirements regulation must submit completed Community Support Statements to FHFA on or before May 17, 2010.

ADDRESSES: Bank members selected for the 2008-09 eighth round review cycle under the FHFA's community support requirements regulation must submit completed Community Support Statements to FHFA either by hard-copy mail at the Federal Housing Finance Agency, Housing Mission and Goals, 1625 Eye Street, NW., Washington, DC 20006, or by electronic mail at hmgcommunitysupportprogram@fhfa.gov.

FOR FURTHER INFORMATION CONTACT: Rona Richardson, Office Assistant, Housing Mission and Goals, Federal Housing Finance Agency, by telephone at 202-408-2945, by electronic mail at Rona.Richardson@FHFA.gov, or by hard-copy mail at the Federal Housing Finance Agency, 1625 Eye Street, NW., Washington, DC 20006.

SUPPLEMENTARY INFORMATION:

I. Selection for Community Support Review

Section 10(g)(1) of the Federal Home Loan Bank Act (Bank Act) requires FHFA to promulgate regulations establishing standards of community investment or service Bank members must meet in order to maintain access to long-term advances. See 12 U.S.C. 1430(g)(1). The regulations promulgated by FHFA must take into account factors such as the Bank member's performance under the Community Reinvestment Act of 1977 (CRA), 12 U.S.C. 2901 et seq., and record of lending to first-time homebuyers. See 12 U.S.C. 1430(g)(2). Pursuant to section 10(g) of the Bank Act, FHFA has promulgated a community support requirements regulation that establishes standards a Bank member must meet in order to maintain access to long-term advances, and review criteria FHFA must apply in evaluating a member's community support performance. See 12 CFR part 1290. The regulation includes standards and criteria for the two statutory factors—CRA performance and record of lending to first-time homebuyers. 12 CFR 1290.3. Only members subject to the CRA must meet the CRA standard. 12 CFR 1290.3(b). All members, including those not subject to CRA, must meet the first-time homebuyer standard. 12 CFR 1290.3(c).

Under the rule, FHFA selects approximately one-eighth of the members in each Bank district for community support review each calendar quarter. 12 CFR 1290.2(a). FHFA will not review an institution's community support performance until it has been a Bank member for at least one year. Selection for review is not, nor should it be construed as, any indication of either the financial condition or the community support performance of the member.

Each Bank member selected for review must complete a Community Support Statement and submit it to FHFA by the May 17, 2010 deadline prescribed in this notice. 12 CFR 1290.2(b)(1)(ii) and (c). On or before April 15, 2010, each Bank will notify the members in its district that have been selected for the 2008-09 eighth round community support review cycle that they must complete and submit to FHFA by the deadline a Community Support Statement. 12 CFR 1290.2(b)(2)(i). The member's Bank will provide a blank Community Support Statement Form (OMB No. 2590-0005), which also is available on the FHFA's Web site: http://www.fhfa.gov/webfiles/2924/FHFAForm060.pdf. Upon request, the member's Bank also will provide assistance in completing the Community Support Statement.

FHFA has selected the following members for the 2008-09 eighth round community support review cycle:

Federal Home Loan Bank of Boston—District 1
First Bristol Federal Credit Union | Bristol | Connecticut.
Savings Bank of Danbury | Danbury | Connecticut.
American Eagle Federal Credit Union | East Hartford | Connecticut.
First Bank of Greenwich (The) | Greenwich | Connecticut.
Seasons Federal Credit Union | Middletown | Connecticut.
Dime Bank | Norwich | Connecticut.
Darien Rowayton Bank | Rowayton | Connecticut.
Western Connecticut Federal Credit Union | Sandy Hook | Connecticut.
Stafford Savings Bank | Stafford Springs | Connecticut.
Stamford Federal Credit Union | Stamford | Connecticut.
Sikorsky Financial Credit Union | Stratford | Connecticut.
Torrington Savings Bank | Torrington | Connecticut.
Constitution Corporate Federal Credit Union | Wallingford | Connecticut.
Waterbury Connecticut Teachers Federal Credit Union | Waterbury | Connecticut.
Webster Bank, NA | Waterbury | Connecticut.
Mutual Security Credit Union | Wilton | Connecticut.
Maine State Credit Union | Augusta | Maine.
Biddeford Savings Bank | Biddeford | Maine.
Atlantic Regional Federal Credit Union | Brunswick | Maine.
Franklin-Somerset Federal Credit Union | Farmington | Maine.
Central Maine Federal Credit Union | Lewiston | Maine.
Rainbow Federal Credit Union | Lewiston | Maine.
TruChoice Federal Credit Union | Portland | Maine.
Evergreen Credit Union | Westbrook | Maine.
The Provident Bank | Amesbury | Massachusetts.
Athol-Clinton Co-Operative Bank | Athol | Massachusetts.
First Priority Credit Union | Boston | Massachusetts.
Massachusetts State Employees Credit Union | Boston | Massachusetts.
Members Plus Credit Union | Boston | Massachusetts.
Bridgewater Savings Bank | Bridgewater | Massachusetts.
Brookline Municipal Credit Union | Brookline | Massachusetts.
Harvard University Employees Credit Union | Cambridge | Massachusetts.
Metropolitan Credit Union | Chelsea | Massachusetts.
Pilgrim Bank | Cohasset | Massachusetts.
Delta-Wye Federal Credit Union | Dorchester | Massachusetts.
Everett Co-Operative Bank | Everett | Massachusetts.
St. Anne's Credit Union of Fall River | Fall River | Massachusetts.
I-C Federal Credit Union | Fitchburg | Massachusetts.
Holyoke Credit Union | Holyoke | Massachusetts.
Bank of Cape Cod | Hyannis | Massachusetts.
Jeanne D'Arc Credit Union | Lowell | Massachusetts.
St. Mary's Credit Union | Marlborough | Massachusetts.
Charles River Bank | Medway | Massachusetts.
Merrimac Savings Bank | Merrimac | Massachusetts.
Methuen Co-Operative Bank | Methuen | Massachusetts.
Millbury National Bank | Millbury | Massachusetts.
Village Bank (The) | Newton | Massachusetts.
Greylock Federal Credit Union | Pittsfield | Massachusetts.
Legacy Banks | Pittsfield | Massachusetts.
Central One Federal Credit Union | Shrewsbury | Massachusetts.
Winter Hill Bank, FSB | Somerville | Massachusetts.
Mass Bay Credit Union | South Boston | Massachusetts.
Freedom Credit Union | Springfield | Massachusetts.
Greater Springfield Credit Union | Springfield | Massachusetts.
Wakefield Co-Operative Bank | Wakefield | Massachusetts.
Webster Five Cents Savings Bank | Webster | Massachusetts.
Mutual Federal Savings Bank of Plymouth County | Whitman | Massachusetts.
Winchester Savings Bank | Winchester | Massachusetts.
Patriot Community Bank | Woburn | Massachusetts.
Hampshire First Bank | Manchester | New Hampshire.
Nashua Bank (The) | Nashua | New Hampshire.
Monadnock Community Bank | Peterborough | New Hampshire.
Northeast Credit Union | Portsmouth | New Hampshire.
Optima Bank & Trust Company | Portsmouth | New Hampshire.
Woodsville Guaranty Savings Bank | Woodsville | New Hampshire.
Dexter Credit Union | Central Falls | Rhode Island.
Peoples Credit Union | Middletown | Rhode Island.
Pawtucket Credit Union | Pawtucket | Rhode Island.
Coastway Community Bank | Providence | Rhode Island.
River Valley Credit Union | Brattleboro | Vermont.
Opportunities Credit Union | Burlington | Vermont.
Community National Bank | Derby | Vermont.
Vermont State Employees Credit Union | Montpelier | Vermont.
Ledyard National Bank | Norwich | Vermont.
First National Bank of Orwell | Orwell | Vermont.
Peoples Trust Company of St. Albans | Saint Albans | Vermont.
Wells River Savings Bank | Wells River | Vermont.
Federal Home Loan Bank of New York—District 2
The First National Bank of Absecon | Absecon | New Jersey.
Aspire Federal Credit Union | Clark | New Jersey.
1st Colonial National Bank | Collingswood | New Jersey.
First State Bank | Cranford | New Jersey.
North Jersey Community Bank | Englewood Cliffs | New Jersey.
Credit Union of New Jersey | Ewing | New Jersey.
Bank of New Jersey | Fort Lee | New Jersey.
Indus American Bank | Iselin | New Jersey.
First Choice Bank | Lawrenceville | New Jersey.
Sun National Bank | Medford | New Jersey.
Sterling Bank | Mount Laurel | New Jersey.
BankAsiana | Palisades Park | New Jersey.
Valley National Bank | Passaic | New Jersey.
Bank of Princeton (The) | Princeton | New Jersey.
Roselle Savings Bank | Roselle | New Jersey.
Saddle River Valley Bank | Saddle River | New Jersey.
HillTop Community Bank | Summit | New Jersey.
Shore Community Bank | Toms River | New Jersey.
Paragon Federal Credit Union | Township of Washington | New Jersey.
Highlands State Bank | Vernon | New Jersey.
Capital Bank of New Jersey | Vineland | New Jersey.
Alma Bank | Astoria | New York.
Marathon National Bank of New York | Astoria | New York.
Seneca FS & LA | Baldwinsville | New York.
Ballston Spa National Bank | Ballston Spa | New York.
CheckSpring Bank | Bronx | New York.
Esquire Bank | Brooklyn | New York.
The Dime Savings Bank of Williamsburg | Brooklyn | New York.
Patriot Federal Bank | Canajoharie | New York.
Carthage FS & LA | Carthage | New York.
Community Bank, NA | Dewitt | New York.
Lake Shore Savings Bank | Dunkirk | New York.
Teachers Federal Credit Union | Farmingville | New York.
NewBank | Flushing | New York.
United International Bank | Flushing | New York.
Community National Bank | Great Neck | New York.
Empire National Bank | Islandia | New York.
Gold Coast Bank | Islandia | New York.
Madison National Bank | Merrick | New York.
Orange County Trust Company | Middletown | New York.
Global Bank | New York | New York.
Guardian Trust Company, FSB | New York | New York.
Interaudi Bank | New York | New York.
Self Reliance (N.Y.) Federal Credit Union | New York | New York.
Empire State Bank | Newburgh | New York.
Flushing Commercial Bank | North Hyde Park | New York.
The North Country Savings Bank | Ogdensburg | New York.
Alliance Bank NA | Oneida | New York.
Stissing National Bank of Pine Plains (The) | Pine Plains | New York.
Ridgewood Savings Bank | Ridgewood | New York.
Advantage Federal Credit Union | Rochester | New York.
Genesee Regional Bank | Rochester | New York.
AmeriCU Credit Union | Rome | New York.
First National Bank of Scotia | Scotia | New York.
Seneca Falls Savings Bank (The) | Seneca Falls | New York.
Geddes FS & LA | Syracuse | New York.
National Bank of Delaware County | Walton | New York.
Eurobank | Hato Rey | Puerto Rico.
R-G Premier Bank of Puerto Rico | Hato Rey | Puerto Rico.
Merchants Commercial Bank | St. Thomas | Virgin Islands.
Federal Home Loan Bank of Pittsburgh—District 3
Chase Bank USA, National Association | Newark | Delaware.
Citicorp Trust Bank, FSB | Newark | Delaware.
First Bank of Delaware | Wilmington | Delaware.
MidCoast Community Bank | Wilmington | Delaware.
TD Bank, National Association | Wilmington | Delaware.
Community National Bank of Northwestern Pennsylvania | Albion | Pennsylvania.
Allegiance Bank of North America | Bala Cynwyd | Pennsylvania.
Hometown Bank of Pennsylvania | Bedford | Pennsylvania.
First Keystone National Bank | Berwick | Pennsylvania.
Team Capital Bank | Bethlehem | Pennsylvania.
American Eagle Savings Bank, PASA | Boothwyn | Pennsylvania.
Clarion Onized Federal Credit Union | Clarion | Pennsylvania.
Croydon Savings Bank | Croydon | Pennsylvania.
FNB Bank, National Association | Danville | Pennsylvania.
MileStone Bank | Doylestown | Pennsylvania.
Monument Bank | Doylestown | Pennsylvania.
Marquette Savings Bank | Erie | Pennsylvania.
Vantage Point Bank | Fort Washington | Pennsylvania.
First United National Bank | Fryburg | Pennsylvania.
Adams County National Bank | Gettysburg | Pennsylvania.
Metro Bank | Harrisburg | Pennsylvania.
Colonial American Bank | Horsham | Pennsylvania.
Huntingdon Savings Bank | Huntingdon | Pennsylvania.
Huntingdon Valley Bank | Huntingdon Valley | Pennsylvania.
First Commonwealth Bank | Indiana | Pennsylvania.
Abington Bank | Jenkintown | Pennsylvania.
Farmers & Merchants Bank of Western Pennsylvania, National Association | Kittanning | Pennsylvania.
Fulton Bank | Lancaster | Pennsylvania.
The First National Bank of Lilly | Lilly | Pennsylvania.
Victory Bank (The) | Limerick | Pennsylvania.
First Priority Bank | Malvern | Pennsylvania.
Citizens National Bank | Meyersdale | Pennsylvania.
Milton Savings Bank | Milton | Pennsylvania.
Northumberland National Bank | Northumberland | Pennsylvania.
First National Bank of Palmerton | Palmerton | Pennsylvania.
Hyperion Bank | Philadelphia | Pennsylvania.
MoreBank | Philadelphia | Pennsylvania.
Tioga-Franklin Savings Bank | Philadelphia | Pennsylvania.
United Savings Bank | Philadelphia | Pennsylvania.
Valley Green Bank | Philadelphia | Pennsylvania.
Allegent Community Federal Credit Union | Pittsburgh | Pennsylvania.
Fidelity Savings Bank, PASA | Pittsburgh | Pennsylvania.
TriState Capital Bank | Pittsburgh | Pennsylvania.
Landmark Community Bank | Pittston | Pennsylvania.
West Milton State Bank | West Milton | Pennsylvania.
Utilities Employees Credit Union | Wyomissing | Pennsylvania.
CNB Bank, Inc | Berkeley Springs | West Virginia.
Bank of Charles Town | Charles Town | West Virginia.
Davis Trust Company | Elkins | West Virginia.
Pendleton Community Bank, Inc | Franklin | West Virginia.
Logan Bank & Trust Company | Logan | West Virginia.
Capon Valley Bank | Wardensville | West Virginia.
Cornerstone Bank, Inc | West Union | West Virginia.
The Citizens Bank of Weston, Inc | Weston | West Virginia.
Federal Home Loan Bank of Atlanta—District 4
Vantage Bank of Alabama | Albertville | Alabama.
Fnb of Central Alabama | Aliceville | Alabama.
NobleBank & Trust, NA | Anniston | Alabama.
Southern States Bank | Anniston | Alabama.
Reliance Bank | Athens | Alabama.
The First National Bank of Atmore | Atmore | Alabama.
Keystone Bank | Auburn | Alabama.
Regions Bank | Birmingham | Alabama.
First Community Bank | Chatom | Alabama.
Generations Bank | Cullman | Alabama.
Trinity Bank | Dothan | Alabama.
Merchants & Farmers Bank of Greene County Alabama | Eutaw | Alabama.
First Lowndes Bank | Fort Deposit | Alabama.
Progress Bank and Trust | Huntsville | Alabama.
First Metro Bank | Muscle Shoals | Alabama.
Southern Independent Bank | Opp | Alabama.
Farmers and Merchants Bank | Piedmont | Alabama.
River Bank & Trust | Prattville | Alabama.
West Alabama Bank & Trust | Reform | Alabama.
Samson Banking Company, Inc. (The) | Samson | Alabama.
First Cahawba Bank | Selma | Alabama.
Bank Independent | Sheffield | Alabama.
First Southern State Bank | Stevenson | Alabama.
Bryant Bank | Tuscaloosa | Alabama.
Tuscaloosa Credit Union | Tuscaloosa | Alabama.
SouthCity Bank | Vestavia Hills | Alabama.
Wright Patman Congressional | Washington | District of Columbia.
Turnberry Bank | Aventura | Florida.
EuroBank | Boca Raton | Florida.
Legacy Bank of Florida | Boca Raton | Florida.
CNLBank, Southwest Florida | Bonita Springs | Florida.
Horizon Bank | Bradenton | Florida.
Cortez Community Bank | Brooksville | Florida.
Gulf State Community Bank | Carrabelle | Florida.
Flagship Community Bank | Clearwater | Florida.
Bank of Coral Gables, LLC | Coral Gables | Florida.
BBU Bank | Coral Gables | Florida.
First Bank of Miami | Coral Gables | Florida.
Premier Community Bank of the Emerald Coast | Crestview | Florida.
Florida Traditions Bank | Dade City | Florida.
Gateway Bank of Florida | Daytona Beach | Florida.
Destin First Bank | Destin | Florida.
GulfSouth Private Bank | Destin | Florida.
Englewood Bank | Englewood | Florida.
CBC National Bank | Fernandina Beach | Florida.
Stonegate Bank | Fort Lauderdale | Florida.
Southwest Capital Bank, NA | Fort Meyers | Florida.
Commerce Bank of Southwest Florida | Fort Myers | Florida.
First Community Bank of Southwest Florida | Fort Myers | Florida.
Campus USA Credit Union | Gainesville | Florida.
First Bank and Trust Company of Indiantown | Indiantown | Florida.
FirstAtlantic Bank | Jacksonville | Florida.
Jacksonville Firemen's Credit Union | Jacksonville | Florida.
Jax Metro Credit Union | Jacksonville | Florida.
The Jacksonville Bank | Jacksonville | Florida.
TIB Bank of the Keys | Key Largo | Florida.
Key West Bank | Key West | Florida.
CenterState Bank Central Florida, National Association | Kissimmee | Florida.
Community National Bank of the South | Lake Mary | Florida.
Bank of Central Florida | Lakeland | Florida.
Community Southern Bank | Lakeland | Florida.
USAmeriBank | Largo | Florida.
Heritage Bank of Florida | Lutz | Florida.
Marco Community Bank | Marco Island | Florida.
First Capital Bank | Marianna | Florida.
Community Bank of the South | Merritt Island | Florida.
BAC Florida Bank | Miami | Florida.
Executive National Bank | Miami | Florida.
TransAtlantic Bank | Miami | Florida.
Liberty Bank | Naples | Florida.
Marquis Bank | North Miami Beach | Florida.
FirstCity Bank of Commerce | North Palm Beach | Florida.
First Avenue National Bank | Ocala | Florida.
Gateway Bank of Central Florida | Ocala | Florida.
Florida Bank of Commerce | Orlando | Florida.
McCoy Federal Credit Union | Orlando | Florida.
Seaside National Bank & Trust | Orlando | Florida.
The Citizens Bank of Oviedo | Oviedo | Florida.
Anderen Bank of Tampa Bay | Palm Harbor | Florida.
1st Manatee Bank | Parrish | Florida.
Sunshine State FS & LA | Plant City | Florida.
National Bank of Southwest Florida | Port Charlotte | Florida.
Republic Bank | Port Richey | Florida.
Calusa National Bank | Punta Gorda | Florida.
Haven Trust Bank Florida | Saint Augustine | Florida.
Insignia Bank | Sarasota | Florida.
ProBank | Tallahassee | Florida.
Southeast Corporate Federal Credit Union | Tallahassee | Florida.
Tallahassee State Bank | Tallahassee | Florida.
First East Side Savings Bank | Tamarac | Florida.
American Momentum Bank | Tampa | Florida.
Central Bank | Tampa | Florida.
Gte Federal Credit Union | Tampa | Florida.
GulfShore Bank | Tampa | Florida.
NorthStar Bank | Tampa | Florida.
Florida Shores Bank—Southwest | Venice | Florida.
First Bank of the Palm Beaches | West Palm Beach | Florida.
Enterprise Banking Company | Abbeville | Georgia.
Northside Bank | Adairsville | Georgia.
Wheeler County State Bank | Alamo | Georgia.
Four County Bank (The) | Allentown | Georgia.
Providence Bank | Alpharetta | Georgia.
Security Bank of North Fulton | Alpharetta | Georgia.
The National Bank of Georgia | Athens | Georgia.
Atlantic Capital Bank | Atlanta | Georgia.
Brookhaven Bank | Atlanta | Georgia.
Capitol City Bank & Trust Company | Atlanta | Georgia.
Global Commerce Bank | Atlanta | Georgia.
Midtown Bank & Trust Company | Atlanta | Georgia.
One Georgia Bank | Atlanta | Georgia.
Private Bank of Buckhead | Atlanta | Georgia.
RockBridge Commercial Bank | Atlanta | Georgia.
Sunrise Bank of Atlanta | Atlanta | Georgia.
Savannah River Banking Company | Augusta | Georgia.
The First National Bank of Barnesville | Barnesville | Georgia.
PrimeSouth Bank | Blackshear | Georgia.
Atlantic National Bank | Brunswick | Georgia.
Peoples Bank & Trust | Buford | Georgia.
United National Bank | Cairo | Georgia.
Bartow County Bank | Cartersville | Georgia.
PeoplesSouth Bank | Colquitt | Georgia.
Columbus Bank and Trust | Columbus | Georgia.
Columbus Community Bank | Columbus | Georgia.
The Commercial Bank | Crawford | Georgia.
First Choice Community Bank | Dallas | Georgia.
Georgia Heritage Bank | Dallas | Georgia.
Bank of Dawson | Dawson | Georgia.
Bank of Terrell | Dawson | Georgia.
First Citizens Bank of Georgia | Dawsonville | Georgia.
Metro City Bank | Doraville | Georgia.
Farmers State Bank | Dublin | Georgia.
The Morris State Bank | Dublin | Georgia.
Century Security Bank | Duluth | Georgia.
Signature Bank of Georgia | Dunwoody | Georgia.
State Bank of Georgia | Fayetteville | Georgia.
Peach State Bank & Trust | Gainesville | Georgia.
WestSide Bank | Hiram | Georgia.
KeyWorth Bank | Johns Creek | Georgia.
Heritage Bank | Jonesboro | Georgia.
Citizens State Bank | Kingsland | Georgia.
LaGrange Banking Company | La Grange | Georgia.
American United Bank | Lawrenceville | Georgia.
Bank of Lenox | Lenox | Georgia.
American Pride Bank | Macon | Georgia.
First Landmark Bank | Marietta | Georgia.
Liberty First Bank | Monroe | Georgia.
Touchmark National Bank | Norcross | Georgia.
State Bank and Trust Company | Pinehurst | Georgia.
Covenant Bank & Trust | Rock Spring | Georgia.
River City Bank | Rome | Georgia.
Satilla Community Bank | Saint Marys | Georgia.
Vinings Bank | Smyrna | Georgia.
First National Bank of Chattooga County | Summerville | Georgia.
Patriot Bank of Georgia | Suwanee | Georgia.
Tifton Banking Company | Tifton | Georgia.
Bank of Valdosta | Valdosta | Georgia.
Guardian Bank | Valdosta | Georgia.
Waycross Bank & Trust | Waycross | Georgia.
CharterBank | West Point | Georgia.
CreekSide Bank | Woodstock | Georgia.
First Covenant Bank | Woodstock | Georgia.
UnitedBank | Zebulon | Georgia.
The Harbor Bank of Maryland | Baltimore | Maryland.
Monument Bank | Bethesda | Maryland.
County First Bank | La Plata | Maryland.
APL Federal Credit Union | Laurel | Maryland.
Bank of Ocean City | Ocean City | Maryland.
NRL Federal Credit Union | Oxon Hill | Maryland.
NASA Federal Credit Union | Upper Marlboro | Maryland.
Farmers and Merchants Bank | Upperco | Maryland.
Old Line National Bank | Waldorf | Maryland.
Forest Commercial Bank | Asheville | North Carolina.
Bank of America, National Association | Charlotte | North Carolina.
Carolina Premier Bank | Charlotte | North Carolina.
NewDominion Bank | Charlotte | North Carolina.
Park Sterling Bank | Charlotte | North Carolina.
Wachovia Bank, National Association | Charlotte | North Carolina.
Aquesta Bank | Cornelius | North Carolina.
New Century Bank | Dunn | North Carolina.
KeySource Commercial Bank | Durham | North Carolina.
Square 1 Bank | Durham | North Carolina.
Four Oaks Bank & Trust Company | Four Oaks | North Carolina.
Patriot State Bank | Fuquay Varina | North Carolina.
Mountain 1st Bank & Trust Company | Hendersonville | North Carolina.
KS Bank | Kenly | North Carolina.
Bank of Carolinas | Mocksville | North Carolina.
The Bank of Currituck | Moyock | North Carolina.
Union Bank & Trust Company | Oxford | North Carolina.
First-Citizens Bank & Trust Company | Raleigh | North Carolina.
Nuestro Banco | Raleigh | North Carolina.
Roanoke Rapids Savings Bank, SSB | Roanoke Rapids | North Carolina.
Community Bank of Rowan | Salisbury | North Carolina.
Jackson Savings Bank, SSB | Sylva | North Carolina.
Tarboro Savings Bank, SSB | Tarboro | North Carolina.
OldTown Bank | Waynesville | North Carolina.
Great State Bank | Wilkesboro | North Carolina.
Security Federal Bank | Aiken | South Carolina.
Southern Bank & Trust | Aiken | South Carolina.
VistaBank | Aiken | South Carolina.
Bank of Anderson, NA | Anderson | South Carolina.
Atlantic Community Bank | Bluffton | South Carolina.
Harbor National Bank | Charleston | South Carolina.
South Carolina State Credit Union | Columbia | South Carolina.
BankGreenville | Greenville | South Carolina.
Community 1 Federal Credit Union | Greenville | South Carolina.
Pinnacle Bank of South Carolina | Greenville | South Carolina.
CapitalBank | Greenwood | South Carolina.
Palmetto State Bank | Hampton | South Carolina.
Beach First National Bank | Myrtle Beach | South Carolina.
South Atlantic Bank | Myrtle Beach | South Carolina.
Carolina Alliance Bank | Spartanburg | South Carolina.
First National Bank of the South | Spartanburg | South Carolina.
Congaree State Bank | West Columbia | South Carolina.
Highlands Union Bank | Abingdon | Virginia.
Countrywide Bank, FSB | Alexandria | Virginia.
State Department Federal Credit Union | Alexandria | Virginia.
Bank of Clarke County | Berryville | Virginia.
The National Bank of Blacksburg | Blacksburg | Virginia.
Bank of Botetourt | Buchanan | Virginia.
ABNB Federal Credit Union | Chesapeake | Virginia.
First Virginia Community Bank | Fairfax | Virginia.
Virginia Heritage Bank | Fairfax | Virginia.
Bank of Floyd | Floyd | Virginia.
Bronco Federal Credit Union | Franklin | Virginia.
Virginia Partners Bank | Fredericksburg | Virginia.
Capital One Bank (USA), National Association | Glen Allen | Virginia.
Colonial Virginia Bank | Gloucester | Virginia.
Trupoint Bank | Grundy | Virginia.
Benchmark Community Bank | Kenbridge | Virginia.
The First Bank and Trust Company | Lebanon | Virginia.
The Bank of Marion | Marion | Virginia.
Chain Bridge Bank, National Association | McLean | Virginia.
Peoples Community Bank | Montross | Virginia.
Old Dominion National Bank | North Garden | Virginia.
Consolidated Bank and Trust Company | Richmond | Virginia.
Virginia Business Bank | Richmond | Virginia.
Citizens Community Bank | South Hill | Virginia.
Bank of Essex | Tappahannock | Virginia.
The Fauquier Bank | Warrenton | Virginia.
Federal Home Loan Bank of Cincinnati—District 5
Peoples Bank and Trust Company of Clinton County | Albany | Kentucky.
Members Choice Credit Union | Ashland | Kentucky.
Town Square Bank, Inc | Ashland | Kentucky.
Auburn Banking Co | Auburn | Kentucky.
Appalachian Federal Credit Union | Berea | Kentucky.
Farmers State Bank | Booneville | Kentucky.
American Bank & Trust Company, Inc | Bowling Green | Kentucky.
Citizens First Bank, Inc | Bowling Green | Kentucky.
The First National Bank of Brooksville | Brooksville | Kentucky.
Bank of Buffalo | Buffalo | Kentucky.
Citizens Bank of Cumberland County | Burkesville | Kentucky.
Heritage Bank | Burlington | Kentucky.
Bank of Caneyville | Caneyville | Kentucky.
Hometown Bank of Corbin, Inc | Corbin | Kentucky.
Bank of Kentucky, Inc | Crestview Hills | Kentucky.
Elkton Bank & Trust Co | Elkton | Kentucky.
Farmers Deposit Bank | Eminence | Kentucky.
First Federal Savings Bank of Frankfort | Frankfort | Kentucky.
Commercial Bank of Grayson | Grayson | Kentucky.
The First National Bank of Grayson | Grayson | Kentucky.
Ohio. Valley Financial Group | Henderson | Kentucky.
Hyden Citizens Bank | Hyden | Kentucky.
Citizens Guaranty Bank | Irvine | Kentucky.
Citizens Bank & Trust Co | Jackson | Kentucky.
The First National Bank of Jackson | Jackson | Kentucky.
Lewisburg Banking Co | Lewisburg | Kentucky.
Bank of Lexington | Lexington | Kentucky.
University of Kentucky Federal C.U | Lexington | Kentucky.
First National Bank & Trust | London | Kentucky.
Louisa Community Bank | Louisa | Kentucky.
Autotruck Federal Credit Union | Louisville | Kentucky.
Beacon Community Credit Union | Louisville | Kentucky.
Eclipse Bank, Inc | Louisville | Kentucky.
Stock Yards Bank & Trust Co | Louisville | Kentucky.
First United Bank and Trust Company | Madisonville | Kentucky.
The Peoples Bank | Marion | Kentucky.
Security Bank & Trust Co | Maysville | Kentucky.
Citizens Bank | Morehead | Kentucky.
Citizens Bank of Northern Kentucky | Newport | Kentucky.
First Farmers Bank & Trust | Owenton | Kentucky.
Paducah Bank & Trust Co | Paducah | Kentucky.
Kentucky Bank | Paris | Kentucky.
PBK Bank Inc | Richmond | Kentucky.
The Sacramento Deposit Bank | Sacramento | Kentucky.
Salyersville National Bank | Salyersville | Kentucky.
Citizens Union Bank of Shelby | Shelbyville | Kentucky.
Peoples Exchange Bank | Stanton | Kentucky.
Bank of The Mountains Inc | West Liberty | Kentucky.
East Kentucky Employees Federal Credit Union | Winchester | Kentucky.
Winchester Federal Bank | Winchester | Kentucky.
North Akron Savings Bank | Akron | Ohio.
The Andover Bank | Andover | Ohio.
Sutton Bank | Attica | Ohio.
The First National Bank of Blanchester | Blanchester | Ohio.
Farmers and Merchants Bank (The) | Caldwell | Ohio.
Farmers National Bank of Canfield | Canfield | Ohio.
CBank | Cincinnati | Ohio.
Foundation Bank | Cincinnati | Ohio.
The Cincinnatus Savings & Loan Co | Cincinnati | Ohio.
Insight Bank | Columbus | Ohio.
The Union Bank Co | Columbus Grove | Ohio.
Heartland Federal Credit Union | Dayton | Ohio.
Universal 1Credit Union, Inc | Dayton | Ohio.
The State Bank & Trust Co | Defiance | Ohio.
Cooper State Bank | Dublin | Ohio.
Fremont Federal Credit Union | Fremont | Ohio.
Benchmark Bank | Gahanna | Ohio.
The Ohio Valley Bank | Gallipolis | Ohio.
First Financial Bank, NA | Hamilton | Ohio.
The Harrison B & LA | Harrison | Ohio.
Credit Union of Ohio | Hilliard | Ohio.
LCNB National Bank | Lebanon | Ohio.
Buckeye Community Bank | Lorain | Ohio.
The Lorain National Bank | Lorain | Ohio.
Ohio State Bank (The) | Marion | Ohio.
Miami Savings Bank | Miamitown | Ohio.
Minster Bank | Minster | Ohio.
The Mount Victory State Bank | Mount Victory | Ohio.
First National Bank in New Bremen | New Bremen | Ohio.
Farmers State Bank & Trust | New Madison | Ohio.
Great Lakes Credit Union, Inc | Perrysburg | Ohio.
Portage Community Bank | Ravenna | Ohio.
The Richwood Banking Company | Richwood | Ohio.
The First Central National Bank of St. Paris | St. Paris | Ohio.
The First National Bank of Sycamore | Sycamore | Ohio.
First Bank of Ohio | Tiffin | Ohio.
Glass City Federal Credit Union | Toledo | Ohio.
MainSource Bank—Ohio | Troy | Ohio.
Abbey Credit Union, Inc | Vandalia | Ohio.
Milton Banking Company (The) | Wellston | Ohio.
The National Bank And Trust Company | Wilmington | Ohio.
Woodsfield Savings Bank | Woodsfield | Ohio.
Columbus First Bank | Worthington | Ohio.
Community Bank & Trust | Ashland City | Tennessee.
Citizens Bank & Trust Company | Atwood | Tennessee.
Reliant Bank | Brentwood | Tennessee.
CapitalMark Bank & Trust | Chattanooga | Tennessee.
Southern Heritage Bank | Cleveland | Tennessee.
The Community Bank of East Tennessee | Clinton | Tennessee.
Heritage Bank & Trust | Columbia | Tennessee.
First Alliance Bank | Cordova | Tennessee.
Cumberland County Bank | Crossville | Tennessee.
Tristar Bank | Dickson | Tennessee.
Traditions First Bank | Erin | Tennessee.
Bank of Frankewing | Frankewing | Tennessee.
Franklin Synergy Bank | Franklin | Tennessee.
Tennessee Commerce Bank | Franklin | Tennessee.
Cornerstone Community Bank | Hixson | Tennessee.
DuPont Community Credit Union | Hixson | Tennessee.
First South Bank | Jackson | Tennessee.
TriSummit Bank | Kingsport | Tennessee.
First National Bank of LaFollette (The) | LaFollette | Tennessee.
CedarStone Bank | Lebanon | Tennessee.
Liberty State Bank | Liberty | Tennessee.
Bank of Perry County | Lobelville | Tennessee.
ETMA Federal Credit Union | Louisville | Tennessee.
Foothills Bank & Trust | Maryville | Tennessee.
Bank of Mason | Mason | Tennessee.
Security Federal Savings Bank McMinnville | McMinnville | Tennessee.
Mckenzie Banking Co | Mckenzie | Tennessee.
Financial Federal Savings Bank | Memphis | Tennessee.
First Tennessee Bank, NA | Memphis | Tennessee.
Independent Bank | Memphis | Tennessee.
Paragon National Bank | Memphis | Tennessee.
Tri-state Bank of Memphis | Memphis | Tennessee.
Triumph Bank | Memphis | Tennessee.
Fifth Third Bank, National Association | Nashville | Tennessee.
Pinnacle National Bank | Nashville | Tennessee.
Community Trust & Banking Company | Ooletewah | Tennessee.
SmartBank | Pigeon Forge | Tennessee.
Bank of Ripley | Ripley | Tennessee.
1st Community Bank of East Tennessee | Rogersville | Tennessee.
The Citizens Bank of East Tennessee | Rogersville | Tennessee.
Hardin County Bank | Savannah | Tennessee.
Commerce Union Bank | Springfield | Tennessee.
Peoples State Bank of Commerce | Trenton | Tennessee.
First Vision Bank of Tennessee | Tullahoma | Tennessee.
The Traders National Bank | Tullahoma | Tennessee.
First State Bank | Union City | Tennessee.
Wayne County Bank | Waynesboro | Tennessee.
Federal Home Loan Bank of Indianapolis—District 6
Central National Bank & Trust Co | Attica | Indiana.
Forethought Federal Savings Bank | Batesville | Indiana.
Bloomfield Savings Bank | Bloomfield | Indiana.
Indiana University Credit Union | Bloomington | Indiana.
United Commerce Bank | Bloomington | Indiana.
Wayne Bank And Trust Company | Cambridge City | Indiana.
First Harrison Bank | Corydon | Indiana.
Chiphone Federal Credit Union | Elkhart | Indiana.
Inova Federal Credit Union | Elkhart | Indiana.
The Citizens Exchange Bank | Fairmount | Indiana.
Fire Fighter's City-county FCU | Fort Wayne | Indiana.
Fort Financial Credit Union | Fort Wayne | Indiana.
Midwest American Federal Credit Union | Fort Wayne | Indiana.
Alliance Bank | Francesville | Indiana.
The Friendship State Bank | Friendship | Indiana.
Goshen Community Bank | Goshen | Indiana.
Indiana Business Bank | Indianapolis | Indiana.
Lafayette Community Bank | Lafayette | Indiana.
Farmers and Merchants Bank | Laotto | Indiana.
The Lynnville National Bank | Lynnville | Indiana.
State Bank of Medora | Medora | Indiana.
First Trust Federal Credit Union | Michigan. City | Indiana.
Citizens State Bank of New Castle | New Castle | Indiana.
Notre Dame Federal Credit Union | Notre Dame | Indiana.
First Federal Savings Bank | Rochester | Indiana.
1st Source Bank | South Bend | Indiana.
Centrebank | Veedersburg | Indiana.
Merchants B&T Co | West Harrison | Indiana.
Centier Bank | Whiting | Indiana.
Northstar Bank | Bad Axe | Michigan.
Omni Community Credit Union | Battle Creek | Michigan.
Nstar Community Bank | Bingham Farms | Michigan.
OSB Community Bank | Brooklyn | Michigan.
Chelsea State Bank | Chelsea | Michigan.
Century B&T Co | Coldwater | Michigan.
Southern Michigan Bank & Trust | Coldwater | Michigan.
Davison State Bank | Davison | Michigan.
Community Alliance Credit Union | Dearborn | Michigan.
First State Bank | Decatur | Michigan.
Level One Bank | Farmington Hills | Michigan.
Gerber Federal Credit Union | Fremont | Michigan.
Baybank | Gladstone | Michigan.
Fifth Third Bank | Grand Rapids | Michigan.
Founders Bank & Trust | Grand Rapids | Michigan.
West Michigan Community Bank | Hudsonville | Michigan.
Miners' State Bank | Iron River | Michigan.
Peninsula Bank | Ishpeming | Michigan.
EECU a Community Credit Union | Jackson | Michigan.
First National Bank of Michigan | Kalamazoo | Michigan.
Michigan First Credit Union | Lathrup Village | Michigan.
The Dart Bank, Mason | Mason | Michigan.
Huron Valley State Bank | Milford | Michigan.
Lotus Bank | Novi | Michigan.
Oxford Bank | Oxford | Michigan.
Bank of Northern Michigan (The) | Petoskey | Michigan.
Public Service Credit Union | Romulus | Michigan.
Family First Credit Union | Saginaw | Michigan.
Old Mission Bank | Sault Ste. Marie | Michigan.
Community State Bank of St. Charles | St Charles | Michigan.
Firstbank—St. Johns | St. Johns | Michigan.
Sterling-Van Dyke Credit Union | Sterling Heights | Michigan.
First Michigan Bank | Troy | Michigan.
Wayne-Westland Federal Credit Union | Westland | Michigan.
Federal Home Loan Bank of Chicago—District 7
The First National Bank of Allendale | Allendale | Illinois.
Old Second National Bank | Aurora | Illinois.
Tompkins State Bank | Avon | Illinois.
Beardstown Savings SB | Beardstown | Illinois.
Citizens Community Bank of Illinois | Berwyn | Illinois.
Great Lakes Bank, National Association | Blue Island | Illinois.
Marine Bank and Trust | Carthage | Illinois.
Buena Vista National Bank | Chester | Illinois.
Chester National Bank | Chester | Illinois.
Lakeside Bank | Chicago | Illinois.
Pacific Global Bank | Chicago | Illinois.
Republic Bank of Chicago | Chicago | Illinois.
The Northern Trust Company | Chicago | Illinois.
State Bank of Chrisman | Chrisman | Illinois.
The First National Bank of Dieterich | Dieterich | Illinois.
First State Bank of Dix | Dix | Illinois.
Citizens Bank of Edinburg | Edinburg | Illinois.
TheBank of Edwardsville | Edwardsville | Illinois.
Legence Bank | Eldorado | Illinois.
The Elgin State Bank | Elgin | Illinois.
Advantage National Bank | Elk Grove Village | Illinois.
First Bank & Trust | Evanston | Illinois.
Fairfield National Bank | Fairfield | Illinois.
Flora Savings Bank | Flora | Illinois.
Town Center Bank | Frankfort | Illinois.
Farmers & Mechanics Bank | Galesburg | Illinois.
Glasford State Bank | Glasford | Illinois.
Goodfield State Bank | Goodfield | Illinois.
Farmers National Bank of Griggsville | Griggsville | Illinois.
The Harvard State Bank | Harvard | Illinois.
PeopleFirst Bank | Joliet | Illinois.
Libertyville Bank & Trust Company | Libertyville | Illinois.
Clay County State Bank | Louisville | Illinois.
Homestar Bank | Manteno | Illinois.
First Federal Savings Bank of Mascoutah | Mascoutah | Illinois.
First Federal Savings & Loan Association | Mattoon | Illinois.
Morton Community Bank | Morton | Illinois.
LincolnWay Community Bank | New Lenox | Illinois.
Community Bank of Oak Park River Forest | Oak Park | Illinois.
TrustBank | Olney | Illinois.
First Federal Savings Bank | Ottawa | Illinois.
First Bank & Trust, SB | Paris | Illinois.
First National Bank in Paxton | Paxton | Illinois.
Freestar Bank, National Association | Pontiac | Illinois.
Bank of Rantoul | Rantoul | Illinois.
The First National Bank & Trust Company of Rochelle | Rochelle | Illinois.
Northwest Bank of Rockford | Rockford | Illinois.
Gateway Community Bank | Roscoe | Illinois.
Area Bank | Rosiclare | Illinois.
First Community Bank | Sherrard | Illinois.
National Bank of St. Anne | St Anne | Illinois.
Sterling Federal Bank, FSB | Sterling | Illinois.
Streator Home Building & Loan Association | Streator | Illinois.
The First National Bank of Sullivan | Sullivan | Illinois.
Savanna-Thomson State Bank | Thomson | Illinois.
Tempo Bank, A Federal Savings Bank | Trenton | Illinois.
Heritage Bank of Central Illinois | Trivoli | Illinois.
Members United Corporate Federal Credit Union | Warrenville | Illinois.
Waterman State Bank | Waterman | Illinois.
Iroquois Federal Savings & Loan Association | Watseka | Illinois.
NorStates Bank | Waukegan | Illinois.
Wemple State Bank | Waverly | Illinois.
State Bank of Illinois | West Chicago | Illinois.
Golden Eagle Community Bank | Woodstock | Illinois.
Abby Bank | Abbotsford | Wisconsin.
Sterling Bank | Barron | Wisconsin.
Calumet County Bank | Brillion | Wisconsin.
Ridgestone Bank | Brookfield | Wisconsin.
First Banking Center | Burlington | Wisconsin.
Cambridge State Bank | Cambridge | Wisconsin.
Community Bank of Cameron | Cameron | Wisconsin.
Community Bank of Central Wisconsin | Colby | Wisconsin.
Community Bank CBD | Delavan | Wisconsin.
Charter Bank Eau Claire | Eau Claire | Wisconsin.
Royal Credit Union | Eau Claire | Wisconsin.
Marine Credit Union | Fond Du Lac | Wisconsin.
Grand Marsh State Bank | Grand Marsh | Wisconsin.
Hartford Savings Bank | Hartford | Wisconsin.
Farmers State Bank | Hillsboro | Wisconsin.
Citizens State Bank | Hudson | Wisconsin.
First American Bank, NA | Hudson | Wisconsin.
The Bank of Kaukauna | Kaukauna | Wisconsin.
TSB Bank | Lomira | Wisconsin.
Bank First National | Manitowoc | Wisconsin.
Investors Community Bank | Manitowoc | Wisconsin.
Farmers & Merchants Bank and Trust | Marinette | Wisconsin.
The Stephenson National Bank & Trust | Marinette | Wisconsin.
Marshfield Savings Bank | Marshfield | Wisconsin.
Mayville Savings Bank | Mayville | Wisconsin.
McFarland State Bank | McFarland | Wisconsin.
Lincoln Community Bank | Merrill | Wisconsin.
Brewery Credit Union | Milwaukee | Wisconsin.
The PrivateBank, NA | Milwaukee | Wisconsin.
Monona State Bank | Monona | Wisconsin.
Security Bank | New Auburn | Wisconsin.
First National Bank of Niagara | Niagara | Wisconsin.
Bank of Oakfield | Oakfield | Wisconsin.
Oostburg State Bank | Oostburg | Wisconsin.
United Bank | Osseo | Wisconsin.
Pigeon Falls State Bank | Pigeon Falls | Wisconsin.
The Port Washington State Bank | Port Washington | Wisconsin.
Peoples State Bank | Prairie Du Chien | Wisconsin.
Bank of Prairie Du Sac | Prairie Du Sac | Wisconsin.
Community Financial Bank | Prentice | Wisconsin.
Community First Bank | Rosholt | Wisconsin.
Indianhead Credit Union | Spooner | Wisconsin.
Evergreen State Bank | Stoughton | Wisconsin.
Stratford State Bank | Stratford | Wisconsin.
Bank of Turtle Lake | Turtle Lake | Wisconsin.
Town and Country Bank | Watertown | Wisconsin.
First National Bank | Waupaca | Wisconsin.
People's State Bank | Wausau | Wisconsin.
WaterStone Bank | Wauwatosa | Wisconsin.
Commerce State Bank | West Bend | Wisconsin.
Federal Home Loan Bank of Des Moines—District 8
The First National Bank of Akron | Akron | Iowa.
First Iowa State Bank | Albia | Iowa.
Iowa State Bank | Algona | Iowa.
Greater Iowa Credit Union | Ames | Iowa.
Rolling Hills Bank & Trust | Atlantic | Iowa.
Audubon State Bank | Audubon | Iowa.
Benton County State Bank | Blairstown | Iowa.
First State Bank | Britt | Iowa.
Patriot Bank | Brooklyn | Iowa.
Farmers & Merchants Bank & Trust | Burlington | Iowa.
Carroll County State Bank | Carroll | Iowa.
Ohnward Bank & Trust | Cascade | Iowa.
Center Point Bank and Trust Company | Center Point | Iowa.
Iowa State Bank | Clarksville | Iowa.
Citizens First Bank | Clinton | Iowa.
The Clinton National Bank | Clinton | Iowa.
First State Bank of Colfax | Colfax | Iowa.
Frontier Savings Bank | Council Bluffs | Iowa.
Northwest Bank & Trust Company | Davenport | Iowa.
First Central State Bank | De Witt | Iowa.
Viking State Bank & Trust | Decorah | Iowa.
Defiance State Bank | Defiance | Iowa.
Bankers Trust Company | Des Moines | Iowa.
American Trust & Savings Bank | Dubuque | Iowa.
Du Trac Community Credit Union | Dubuque | Iowa.
Valley Bank | Eldridge | Iowa.
Iowa Trust & Savings Bank | Emmetsburg | Iowa.
Emmet County State Bank | Estherville | Iowa.
First Security State Bank | Evansdale | Iowa.
Manufacturers Bank & Trust Company | Forest City | Iowa.
Garnavillo Savings Bank | Garnavillo | Iowa.
Union State Bank | Greenfield | Iowa.
United Bank and Trust Company | Hampton | Iowa.
Shelby County State Bank | Harlan | Iowa.
Heritage Bank, National Association | Holstein | Iowa.
Iowa State Bank | Hull | Iowa.
United Bank of Iowa | Ida Grove | Iowa.
MidWestOne Bank | Iowa City | Iowa.
University of Iowa Community Credit Union | Iowa City | Iowa.
Community Choice Credit Union | Johnston | Iowa.
Polk County Bank | Johnston | Iowa.
Primebank | Le Mars | Iowa.
Luana Savings Bank | Luana | Iowa.
First Trust and Savings Bank | Marcus | Iowa.
Mediapolis Savings Bank | Mediapolis | Iowa.
Central State Bank | Muscatine | Iowa.
Community Bank | Nevada | Iowa.
Danville State Savings Bank | New London | Iowa.
Hedrick Savings Bank | Ottumwa | Iowa.
Community State Bank | Paton | Iowa.
The First National Bank of Primghar | Primghar | Iowa.
Bank Iowa | Red Oak | Iowa.
Pioneer Bank | Sergeant Bluff | Iowa.
The Exchange State Bank | Springville | Iowa.
Central Bank | Storm Lake | Iowa.
First State Bank | Stuart | Iowa.
Farmers Savings Bank & Trust | Traer | Iowa.
American Savings Bank | Tripoli | Iowa.
VisionBank of Iowa | West Des Moines | Iowa.
West Bank | West Des Moines | Iowa.
Farmers Trust & Savings Bank | Williamsburg | Iowa.
Adrian State Bank | Adrian | Minnesota.
Security State Bank | Aitkin | Minnesota.
Annandale State Bank | Annandale | Minnesota.
First State Bank of Ashby | Ashby | Minnesota.
First National Bank | Bagley | Minnesota.
The First National Bank of Battle Lake | Battle Lake | Minnesota.
Sherburne State Bank | Becker | Minnesota.
State Bank of Belle Plaine | Belle Plaine | Minnesota.
RiverWood Bank | Bemidji | Minnesota.
Security Bank USA | Bemidji | Minnesota.
Concorde Bank | Blomkest | Minnesota.
Bonanza Valley State Bank | Brooten | Minnesota.
CenBank | Buffalo Lake | Minnesota.
Western National Bank | Cass Lake | Minnesota.
Root River State Bank | Chatfield | Minnesota.
Citizens State Bank of Clara City | Clara City | Minnesota.
Hometown Community Bank | Cyrus | Minnesota.
Crow River State Bank | Delano | Minnesota.
Share Advantage Credit Union | Duluth | Minnesota.
First Western Bank & Trust | Eden Prairie | Minnesota.
The Bank of Elk River | Elk River | Minnesota.
Boundary Waters Bank | Ely | Minnesota.
Elysian Bank | Elysian | Minnesota.
Security State Bank of Fergus Falls | Fergus Falls | Minnesota.
Northview Bank | Finlayson | Minnesota.
Freeport State Bank | Freeport | Minnesota.
First National Bank of Fulda | Fulda | Minnesota.
State Bank of Gibbon | Gibbon | Minnesota.
Grand Marais State Bank | Grand Marais | Minnesota.
Grand Rapids State Bank | Grand Rapids | Minnesota.
First National Bank | Hawley | Minnesota.
State Bank of Hawley | Hawley | Minnesota.
The First National Bank of Herman | Herman | Minnesota.
Commercial Bank of Minnesota | Heron Lake | Minnesota.
Security State Bank of Hibbing | Hibbing | Minnesota.
Woodlands National Bank | Hinckley | Minnesota.
Stearns Bank Holdingford, National Association | Holdingford | Minnesota.
Riverland Bank | Jordan | Minnesota.
Eastwood Bank | Kasson | Minnesota.
Alliance Bank | Lake City | Minnesota.
State Bank of Lismore | Lismore | Minnesota.
Farmers State Bank of Madelia, Inc | Madelia | Minnesota.
Building Trades Federal Credit Union | Maple Grove | Minnesota.
The First National Bank of Elk River | Maple Lake | Minnesota.
Pioneer Bank | Mapleton | Minnesota.
Summit Community Bank | Maplewood | Minnesota.
Grand Timber Bank | McGregor | Minnesota.
Stonebridge Bank | Minneapolis | Minnesota.
Lake Country Community Bank | Morristown | Minnesota.
Farmers & Merchants State Bank of New York Mills, Inc | New York Mills | Minnesota.
Novation Credit Union | Oakdale | Minnesota.
Platinum Bank | Oakdale | Minnesota.
First State Bank of Okabena (Incorporated) | Okabena | Minnesota.
F & M Community Bank, National Association | Preston | Minnesota.
First State Bank of Red Wing (The) | Red Wing | Minnesota.
HomeTown Bank | Redwood Falls | Minnesota.
First National Bank of the North | Sandstone | Minnesota.
First State Bank of Sauk Centre | Sauk Centre | Minnesota.
Minnesota National Bank | Sauk Centre | Minnesota.
First Resource Bank | Savage | Minnesota.
SouthPoint Federal Credit Union | Sleepy Eye | Minnesota.
Stearns Bank, National Association | St. Cloud | Minnesota.
Lake Bank (The) | Two Harbors | Minnesota.
Stearns Bank of Upsala, National Association | Upsala | Minnesota.
Mid-Central Federal Savings Bank | Wadena | Minnesota.
The First National Bank of Waseca | Waseca | Minnesota.
Valley Bank | Waterville | Minnesota.
FortuneBank | Arnold | Missouri.
BTC Bank | Bethany | Missouri.
Bank of Billings | Billings | Missouri.
Adams Dairy Bank | Blue Springs | Missouri.
Vantage Credit Union | Bridgeton | Missouri.
County Bank | Brunswick | Missouri.
Mainstreet Bank | Bunceton | Missouri.
Farmers State Bank | Cameron | Missouri.
First Missouri State Bank of Cape County | Cape Girardeau | Missouri.
Hometown Bank, National Association | Carthage | Missouri.
First State Bank and Trust Company, Inc | Caruthersville | Missouri.
Citizens Bank of Charleston | Charleston | Missouri.
WestBridge Bank and Trust Company | Chesterfield | Missouri.
Citizens Bank and Trust Company | Chillicothe | Missouri.
Parkside Financial Bank & Trust | Clayton | Missouri.
First National Bank of Clinton | Clinton | Missouri.
Champion Bank | Creve Coeur | Missouri.
Scottrade Bank | Des Peres | Missouri.
Community Bank of El Dorado Springs | El Dorado Springs | Missouri.
Alliance Credit Union | Fenton | Missouri.
Triad Bank | Frontenac | Missouri.
United Security Bank | Fulton | Missouri.
First Bank of Missouri | Gladstone | Missouri.
Glasgow Savings Bank | Glasgow | Missouri.
Superior Bank | Hazelwood | Missouri.
Bay-Hermann-Berger Bank | Hermann | Missouri.
Home Savings Bank | Jefferson City | Missouri.
River Region Credit Union | Jefferson City | Missouri.
First State Bank of Joplin | Joplin | Missouri.
Commerce Bank, NA | Kansas City | Missouri.
Table Rock Community Bank | Kimberling City | Missouri.
Bank of Lee's Summit | Lees Summit | Missouri.
Farmers Bank of Lincoln (The) | Lincoln | Missouri.
Bank of Fairport (The) | Maysville | Missouri.
Unico Bank | Mineral Point | Missouri.
Community Bank & Trust | Neosho | Missouri.
Citizens Bank | New Haven | Missouri.
Bank Star | Pacific | Missouri.
The Paris National Bank | Paris | Missouri.
Bank Star of the LeadBelt | Park Hills | Missouri.
Phelps County Bank | Rolla | Missouri.
Community Bank of Russellville | Russellville | Missouri.
MRV Banks | Sainte Genevieve | Missouri.
Systematic Savings & Loan Association | Springfield | Missouri.
Farmers & Merchants Bank | St. Clair | Missouri.
Maries County Bank (The) | Vienna | Missouri.
McIntosh County Bank | Ashley | North Dakota.
First Security Bank—West | Beulah | North Dakota.
Kirkwood Bank and Trust Company | Bismarck | North Dakota.
Dakota Western Bank | Bowman | North Dakota.
First State Bank | Buxton | North Dakota.
United Valley Bank | Cavalier | North Dakota.
Western State Bank | Devils Lake | North Dakota.
Cornerstone Bank | Enderlin | North Dakota.
BlackRidgeBANK | Fargo | North Dakota.
Bremer Bank, National Association | Fargo | North Dakota.
Citizens State Bank of Finley (The) | Finley | North Dakota.
Garrison State Bank and Trust | Garrison | North Dakota.
Harwood State Bank | Harwood | North Dakota.
Union State Bank of Hazen | Hazen | North Dakota.
Kindred State Bank | Kindred | North Dakota.
Commercial Bank of Mott | Mott | North Dakota.
Farmers Security Bank | Washburn | North Dakota.
First National Bank & Trust of Williston | Williston | North Dakota.
First State Bank of Wilton | Wilton | North Dakota.
Citizens State Bank of Arlington | Arlington | South Dakota.
First State Bank | Armour | South Dakota.
Community Bank | Avon | South Dakota.
First Fidelity Bank | Burke | South Dakota.
DNB National Bank | Clear Lake | South Dakota.
Farmers State Bank | Hosmer | South Dakota.
Sunrise Bank Dakota | Onida | South Dakota.
Black Hills Community Bank, NA | Rapid City | South Dakota.
Federal Home Loan Bank of Dallas—District 9
First Southern Bank | Batesville | Arkansas.
First Western Bank | Booneville | Arkansas.
Chambers Bank | Danville | Arkansas.
Decatur State Bank | Decatur | Arkansas.
First State Bank of De Queen | De Queen | Arkansas.
Bank of Fayetteville (The) | Fayetteville | Arkansas.
Signature Bank of Arkansas | Fayetteville | Arkansas.
First Service Bank | Greenbriar | Arkansas.
Farmers Bank | Hamburg | Arkansas.
Heritage Bank | Leachville | Arkansas.
Central Bank | Little Rock | Arkansas.
Eagle Bank & Trust Company | Little Rock | Arkansas.
Parkway Bank | Portland | Arkansas.
First State Bank | Russellville | Arkansas.
Legacy National Bank | Springdale | Arkansas.
The First National Bank of Wynne | Wynne | Arkansas.
Business First Bank | Baton Rouge | Louisiana.
Investar Bank | Baton Rouge | Louisiana.
Landmark Bank | Clinton | Louisiana.
Caldwell Bank & Trust | Columbia | Louisiana.
Tri-Parish Bank | Eunice | Louisiana.
Gibsland Bank & Trust Company | Gibsland | Louisiana.
The Highlands Bank | Jackson | Louisiana.
Bank of Jena | Jena | Louisiana.
Midsouth Bank, NA | Lafayette | Louisiana.
South Lafourche Bank & Trust Company | Larose | Louisiana.
Merchants & Farmers B&T Company | Leesville | Louisiana.
Resource Bank | Mandeville | Louisiana.
Omni Bank | Metairie | Louisiana.
Bank of Montgomery | Montgomery | Louisiana.
Community First Bank | New Iberia | Louisiana.,
First NBC Bank | New Orleans | Louisiana.
Gulf Coast Bank & Trust Co | New Orleans | Louisiana.
Community Bank | Raceland | Louisiana.
First American Bank & Trust | Vacherie | Louisiana.
First FS & LA | Aberdeen | Mississippi.
Farmers & Merchants Bank | Baldwyn | Mississippi.
Copiah Bank, NA | Hazlehurst | Mississippi.
DeSoto County Bank | Horn Lake | Mississippi.
Planters Bank & Trust Co | Indianola | Mississippi.
First American National Bank | Iuka | Mississippi.
Citizens Bank & Trust Company | Marks | Mississippi.
Pike National Bank | McComb | Mississippi.
Bank of Franklin | Meadville | Mississippi.
United Mississippi Bank | Natchez | Mississippi.
RiverHills Bank | Port Gibson | Mississippi.
BancorpSouth Bank | Tupelo | Mississippi.
Western Bank | Alamogordo | New Mexico.
Bank 1st | Albuquerque | New Mexico.
Bank of Albuquerque, NA | Albuquerque | New Mexico.
Kirtland Federal Union | Albuquerque | New Mexico.
Western Bank | Artesia | New Mexico.
Western Commerce Bank | Carlsbad | New Mexico.
The Citizens Bank | Farmington | New Mexico.
White Sands Federal Credit Union | Las Cruces | New Mexico.
Los Alamos National Bank | Los Alamos | New Mexico.
The James Polk Stone National Bank | Portales | New Mexico.
Citizens Bank, NA | Abilene | Texas.
Anahuac National Bank | Anahuac | Texas.
The Bank Arlington | Arlington | Texas.
Horizon Bank, SSB | Austin | Texas.
The First National Bank of Baird | Baird | Texas.
First National Bank of the Mid-Cities | Bedford | Texas.
The Blanco National Bank | Blanco | Texas.
Legend Bank, NA | Bowie | Texas.
Commercial National Bank | Brady | Texas.
First Star Bank, SSB | Bremond | Texas.
The Bank and Trust of Bryan/College Station | Bryan | Texas.
First Bank | Burkburnett | Texas.
First State Bank & Trust Company | Carthage | Texas.
Spirit Bank of Texas, SSB | College Station | Texas.
Community National Bank & Trust of Texas | Corsicana | Texas.
Stockmens National Bank | Cotulla | Texas.
Texas Exchange Bank, SSB | Crowley | Texas.
Bank of Texas, NA | Dallas | Texas.
Comerica Bank | Dallas | Texas.
First Associations Bank | Dallas | Texas.
First Private Bank of Texas | Dallas | Texas.
Pavillion Bank | Dallas | Texas.
Signature Bank | Dallas | Texas.
T Bank, National Association | Dallas | Texas.
Associated Credit Union of Texas | Deer Park | Texas.
Amistad Bank | Del Rio | Texas.
DATCU Credit Union | Denton | Texas.
Northstar Bank of Texas | Denton | Texas.
First Bank & Trust East Texas | Diboll | Texas.
Pioneer Bank, SSB | Drippings Springs | Texas.
The First National Bank of Eagle Lake | Eagle Lake | Texas.
NewFirst National Bank | El Campo | Texas.
FirstLight Federal Credit Union | El Paso | Texas.
Enloe State Bank in Enloe | Enloe | Texas.
First National Bank of Emory | Emory | Texas.
Greater South Texas Bank | Falfurrias | Texas.
Pecos County State Bank | Fort Stockton | Texas.
Riverbend Bank | Fort Worth | Texas.
Security State Bank & Trust | Fredericksburg | Texas.
Collin Bank | Frisco | Texas.
The First State Bank of Gainesville | Gainesville | Texas.
Moody National Bank | Galveston | Texas.
First National Bank | George West | Texas.
First National Bank of Giddings | Giddings | Texas.
The First National Bank of Gilmer | Gilmer | Texas.
Mills County State Bank | Goldthwaite | Texas.
First State Bank | Graham | Texas.
Grand Bank of Texas | Grand Prairie | Texas.
Farmers State Bank | Groesbeck | Texas.
United Community Bank, NA | Highland Village | Texas.
Hondo National Bank | Hondo | Texas.
American First National Bank | Houston | Texas.
Encore Bank, National Association | Houston | Texas.
Icon Bank of Texas, National Association | Houston | Texas.
Preferred Bank, FSB | Houston | Texas.
Sterling Bank | Houston | Texas.
Vista Bank Texas | Houston | Texas.
Huntington State Bank | Huntington | Texas.
State National Bank of Texas | Iowa Park | Texas.
State Bank of Texas | Irving | Texas.
TIB—The Independent BankersBank | Irving | Texas.
First National Bank of Jacksboro (The) | Jacksboro | Texas.
The Jacksboro National Bank | Jacksboro | Texas.
Texas National Bank of Jacksonville | Jacksonville | Texas.
Alliance Bank Central Texas | Jewett | Texas.
Westbound Bank | Katy | Texas.
American Bank, NA | Keller | Texas.
First National Bank Texas | Killeen | Texas.
First Liberty National Bank | Liberty | Texas.
Texas Trust Credit Union | Mansfield | Texas.
The Commercial Bank | Mason | Texas.
Valliance Bank | McKinney | Texas.
Bank of Commerce | Mclean | Texas.
First National Bank of Midland | Midland | Texas.
Muenster State Bank | Muenster | Texas.
Nixon State Bank | Nixon | Texas.
First Basin Credit Union | Odessa | Texas.
West Texas State Bank | Odessa | Texas.
The Ozona National Bank | Ozona | Texas.
Texas Bay Area Credit Union | Pasadena | Texas.
Texas Citizens Bank, National Association | Pasadena | Texas.
InTouch Credit Union | Plano | Texas.
Vista Bank | Ralls | Texas.
Vision Bank—Texas | Richardson | Texas.
Cattleman's National Bank | Round Mountain | Texas.
1st Community Federal Credit Union | San Angelo | Texas.
Firstmark Credit Union | San Antonio | Texas.
USAA Federal Savings Bank | San Antonio | Texas.
Schertz Bank & Trust | Schertz | Texas.
West Texas State Bank | Snyder | Texas.
Texas Community Bank, National Association | Somerset | Texas.
Providence Bank of Texas | Southlake | Texas.
First National Bank of Stanton (The) | Stanton | Texas.
Founders Bank, SSB | Sugar Land | Texas.
Texell Federal Credit Union | Temple | Texas.
Amoco Federal Credit Union | Texas City | Texas.
The First National Bank of Trenton | Trenton | Texas.
Uvalde National Bank | Uvalde | Texas.
Central National Bank | Waco | Texas.
Wallis State Bank | Wallis | Texas.
First National Bank | Wichita Falls | Texas.
Federal Home Loan Bank of Topeka—District 10
Eagle Legacy Credit Union | Arvada | Colorado.
FirstBank of Boulder | Boulder | Colorado.
Summit Bank & Trust | Broomfield | Colorado.
The Eastern Colorado Bank | Cheyenne Wells | Colorado.
Academy Bank, National Association | Colorado Springs | Colorado.
CoBiz Bank | Denver | Colorado.
Native American Bank, National Association | Denver | Colorado.
FirstBank of Tech Center | Englewood | Colorado.
First National Bank of Estes Park | Estes Park | Colorado.
FirstBank of Northern Colorado | Fort Collins | Colorado.
Fort Collins Commerce Bank | Fort Collins | Colorado.
Larimer Bank of Commerce | Fort Collins | Colorado.
Grand Mountain Bank, FSB | Granby | Colorado.
Timberline Bank | Grand Junction | Colorado.
New West Bank | Greeley | Colorado.
Gunnison Bank & Trust Co | Gunnison | Colorado.
Red Rocks Credit Union | Highlands Ranch | Colorado.
Solera National Bank | Lakewood | Colorado.
FirsTier Bank | Louisville | Colorado.
Loveland Bank of Commerce | Loveland | Colorado.
Champion Bank | Parker | Colorado.
Equitable S&LA | Sterling | Colorado.
FirstBank North | Westminster | Colorado.
Mountain View Bank of Commerce | Westminster | Colorado.
Legacy Bank | Wiley | Colorado.
Signature Bank | Windsor | Colorado.
Stockgrowers State Bank of Ashland | Ashland | Kansas.
Mid America Bank | Baldwin City | Kansas.
American Bank of Baxter Springs | Baxter Springs | Kansas.
The Bendena State Bank | Bendena | Kansas.
The Citizens State Bank | Cheney | Kansas.
Peoples Bank | Coldwater | Kansas.
The First National Bank of Cunningham | Cunningham | Kansas.
State Bank of Downs | Downs | Kansas.
Garden City State Bank | Garden City | Kansas.
The First National Bank of Girard | Girard | Kansas.
Merit Bank | Goff | Kansas.
First National Bank | Goodland | Kansas.
American State Bank & Trust Company | Great Bend | Kansas.
The Citizens National Bank | Greenleaf | Kansas.
The First State Bank of Healy | Healy | Kansas.
Morrill & Janes Bank & Trust | Hiawatha | Kansas.
Farmers & Merchants Bank of Hill City | Hill City | Kansas.
Hillsboro State Bank | Hillsboro | Kansas.
The Hoisington National Bank | Hoisington | Kansas.
First National Bank of Holcomb | Holcomb | Kansas.
Denison State Bank | Holton | Kansas.
The Howard State Bank | Howard | Kansas.
The Jamestown State Bank | Jamestown | Kansas.
The Nekoma State Bank | Lacrosse | Kansas.
First State Bank & Trust Company | Larned | Kansas.
The Lawrence Bank | Lawrence | Kansas.
Credit Union of Johnson County | Lenexa | Kansas.
First National Bank of Liberal | Liberal | Kansas.
Lyons Federal Bank | Lyons | Kansas.
First Security Bank | Overbrook | Kansas.
Generations Bank | Overland Park | Kansas.
Sunflower Bank, NA | Salina | Kansas.
Baileyville State Bank | Seneca | Kansas.
Solomon State Bank | Solomon | Kansas.
Bank of Kansas | South Hutchinson | Kansas.
St. Marys State Bank | St. Marys | Kansas.
RelianzBank | Wichita | Kansas.
Adams State Bank | Adams | Nebraska.
Heartland Community Bank | Bennet | Nebraska.
Two Rivers Bank | Blair | Nebraska.
Brunswick State Bank | Brunswick | Nebraska.
First National Bank of Cambridge | Cambridge | Nebraska.
First National Bank of Chadron | Chadron | Nebraska.
Bank of Clarks | Clarks | Nebraska.
Farmers Bank of Cook | Cook | Nebraska.
Farmers State Bank | Dodge | Nebraska.
Bank of Doniphan | Doniphan | Nebraska.
First National Bank of Fairbury | Fairbury | Nebraska.
First National Bank and Trust Company | Falls City | Nebraska.
First National Bank of Friend | Friend | Nebraska.
The First National Bank of Gordon | Gordon | Nebraska.
Bank of Hartington | Hartington | Nebraska.
Hastings State Bank | Hastings | Nebraska.
First National Bank of Johnson | Johnson | Nebraska.
Security National Bank | Laurel | Nebraska.
Community Bank of Lincoln | Lincoln | Nebraska.
Nebraska Bankers' Bank | Lincoln | Nebraska.
Security First Bank | Lincoln | Nebraska.
Bank of Marquette | Marquette | Nebraska.
American National Bank | Omaha | Nebraska.
Bank of Paxton | Paxton | Nebraska.
Purdum State Bank | Purdum | Nebraska.
State Bank of Scotia | Scotia | Nebraska.
Valley Bank and Trust Company | Scottsbluff | Nebraska.
Iowa-Nebraska State Bank | South Sioux City | Nebraska.
Tilden Bank | Tilden | Nebraska.
First Nebraska Bank | Valley | Nebraska.
Wahoo State Bank | Wahoo | Nebraska.
Heritage Bank | Wood River | Nebraska.
Citizens Bank & Trust Company | Ardmore | Oklahoma.
Peoples State Bank | Blair | Oklahoma.
1st Bank & Trust | Broken Bow | Oklahoma.
The First State Bank | Canute | Oklahoma.
First Bank of Chandler | Chandler | Oklahoma.
Union Bank of Chandler | Chandler | Oklahoma.
Security State Bank | Cheyenne | Oklahoma.
RCB Bank | Claremore | Oklahoma.
The First National Bank of Coweta | Coweta | Oklahoma.
The First National Bank of Davis | Davis | Oklahoma.
First Bank & Trust Co | Duncan | Oklahoma.
Great Plains National Bank | Elk City | Oklahoma.
First Capital Bank | Guthrie | Oklahoma.
The First National Bank of Hooker | Hooker | Oklahoma.
First National Bank | Idabel | Oklahoma.
Idabel National Bank | Idabel | Oklahoma.
Bank of Locust Grove | Locust Grove | Oklahoma.
The Bank, National Association | McAlester | Oklahoma.
Grant County Bank | Medford | Oklahoma.
Security Bank and Trust Company | Miami | Oklahoma.
The First National Bank | Midwest City | Oklahoma.
All America Bank | Mustang | Oklahoma.
Communication Federal Credit Union | Oklahoma City | Oklahoma.
Coppermark Bank | Oklahoma City | Oklahoma.
First Liberty Bank | Oklahoma City | Oklahoma.
Frontier State Bank | Oklahoma City | Oklahoma.
Quail Creek Bank, NA | Oklahoma City | Oklahoma.
The Focus Federal Credit Union | Oklahoma City | Oklahoma.
First National Bank of Okmulgee | Okmulgee | Oklahoma.
The Community State Bank | Poteau | Oklahoma.
The First State Bank | Ryan | Oklahoma.
The Exchange Bank | Skiatook | Oklahoma.
First National Bank of Stigler | Stigler | Oklahoma.
Stroud National Bank | Stroud | Oklahoma.
Bank of Oklahoma, NA | Tulsa | Oklahoma.
Tulsa National Bank | Tulsa | Oklahoma.
Federal Home Loan Bank of San Francisco—District 11
West Valley National Bank | Avondale | Arizona.
Towne Bank of Arizona | Mesa | Arizona.
Altier Credit Union | Phoenix | Arizona.
Deer Valley Credit Union | Phoenix | Arizona.
Heritage Bank, National Association | Phoenix | Arizona.
RepublicBankAz, NA | Phoenix | Arizona.
Sonoran Bank, NA | Phoenix | Arizona.
First Arizona Savings, FSB | Scottsdale | Arizona.
Goldwater Bank, NA | Scottsdale | Arizona.
National Bank of Arizona | Tucson | Arizona.
Foothill Federal Credit Union | Arcadia | California.
Kern Federal Credit Union | Bakersfield | California.
First California Bank | Camarillo | California.
First Choice Bank | Cerritos | California.
Matadors Community Credit Union | Chatsworth | California.
Northern California National Bank | Chico | California.
Tri Counties Bank | Chico | California.
Vibra Bank | Chula Vista | California.
United Pacific Bank | City of Industry | California.
Stellar Business Bank | Covina | California.
First Northern Bank of Dixon | Dixon | California.
Community Valley Bank | El Centro | California.
California Community Bank | Escondido | California.
Folsom Lake Bank | Folsom | California.
Fresno First Bank | Fresno | California.
Pinnacle Bank | Gilroy | California.
Americas United Bank | Glendale | California.
Kings Federal Credit Union | Hanford | California.
Nuvision Financial Credit Union | Huntington Beach | California.
First Foundation Bank | Irvine | California.
Pacific Enterprise Bank | Irvine | California.
Plaza Bank | Irvine | California.
1st Enterprise Bank | Los Angeles | California.
California Business Bank | Los Angeles | California.
Commonwealth Business Bank | Los Angeles | California.
First Standard Bank | Los Angeles | California.
Hanmi Bank | Los Angeles | California.
Manufacturers Bank | Los Angeles | California
Pacific City Bank | Los Angeles | California.
Premier Business Bank | Los Angeles | California.
The Private Bank of California | Los Angeles | California.
Wedbush Bank | Los Angeles | California.
Partners Bank of California | Mission Viejo | California.
1st Capital Bank | Monterey | California.
Alta Alliance Bank | Oakland | California.
OneCalifornia Bank, FSB | Oakland | California.
Citizens Business Bank | Ontario | California.
Inland Community Bank, National Association | Ontario | California.
Desert Commercial Bank | Palm Desert | California.
The Private Bank of the Peninsula | Palo Alto | California.
LA Financial Federal Credit Union | Pasadena | California.
Inland Empire Credit Union | Pomona | California.
Bank of the Sierra | Porterville | California.
Plumas Bank | Quincy | California.
Bay Cities National Bank | Redondo Beach | California.
First National Bank of Southern California | Riverside | California.
Pacific Alliance Bank | Rosemead | California.
Community 1st Bank | Roseville | California.
American River Bank | Sacramento | California.
San Bernardino School Employees Federal Credit Union | San Bernardino | California.
Bank of Internet USA | San Diego | California.
Embarcadero Bank | San Diego | California.
Mission Federal Credit Union | San Diego | California.
North Island Financial Credit Union | San Diego | California.
San Diego Private Bank | San Diego | California.
San Diego Trust Bank | San Diego | California.
America California Bank | San Francisco | California.
JP Morgan Bank and Trust Company, NA | San Francisco | California.
Presidio Bank | San Francisco | California.
Spectrum Federal Credit Union | San Francisco | California.
Union Bank of California, National Association | San Francisco | California.
United American Bank | San Mateo | California.
Tri-Valley Bank | San Ramon | California.
American Riviera Bank | Santa Barbara | California.
Bank of Santa Barbara | Santa Barbara | California.
Community First Credit Union | Santa Rosa | California.
First Community Bank | Santa Rosa | California.
Redwood Credit Union | Santa Rosa | California.
Priority One Credit Union | South Pasadena | California.
Liberty Bank | South San Francisco | California.
Bank of Agriculture and Commerce | Stockton | California.
Star One | Sunnyvale | California.
Tustin Community Bank | Tustin | California.
Universal City Studios | Universal City | California.
Suncrest Bank | Visalia | California.
Saigon National Bank | Westminster | California.
Credit Union of Southern California | Whittier | California.
Friendly Hills Bank | Whittier | California.
River Valley Community Bank | Yuba City | California.
Sutter Community Bank | Yuba City | California.
Citibank, NA | Las Vegas | Nevada.
Kirkwood Bank of Nevada | Las Vegas | Nevada.
Nevada Federal Credit Union | Las Vegas | Nevada.
Service1st Bank of Nevada | Las Vegas | Nevada.
Sun West Bank | Las Vegas | Nevada.
Bank of North Las Vegas | North Las Vegas | Nevada.
Wells Fargo Financial National Bank | North Las Vegas | Nevada.
First Independent Bank of Nevada | Reno | Nevada.
Federal Home Loan Bank of Seattle—District 12
Alaska USA Federal Credit Union | Anchorage | Alaska.
Denali Alaskan Federal Credit Union | Anchorage | Alaska.
Alaska Pacific Bank | Juneau | Alaska.
Community First Guam FCU | Agana | Guam.
Government of Guam Employees Federal Credit Union | Hagatna | Guam.
West Oahu Community FCU | Barbers Point | Hawaii.
First Hawaiian Bank | Honolulu | Hawaii.
Hawaii National Bank | Honolulu | Hawaii.
Pacific Rim Bank | Honolulu | Hawaii.
Hawaii Community Federal Credit Union | Kailua-Kona | Hawaii.
Syringa Bank | Boise | Idaho.
Idaho Independent Bank | Coeur D'alene | Idaho.
Bank of Idaho | Idaho Falls | Idaho.
Idaho First Bank | Mccall | Idaho.
Belt Valley Bank | Belt | Montana.
Flathead Bank of Bigfork | Bigfork | Montana.
First Boulder Valley Bank | Boulder | Montana.
Bank of Bozeman | Bozeman | Montana.
First Madison Valley Bank | Ennis | Montana.
First State Bank of Forsyth | Forsyth | Montana.
Yellowstone Bank | Laurel | Montana.
Treasure State Bank | Missoula | Montana.
Montana State Bank | Plentywood | Montana.
Valley Bank of Ronan | Ronan | Montana.
High Desert Bank | Bend | Oregon.
Home Valley Bank | Cave Junction | Oregon.
Citizens Bank | Corvallis | Oregon.
Oregon Community Credit Union | Eugene | Oregon.
Oregon Pacific Banking Co | Florence | Oregon.
SOFCU Community Credit Union | Grants Pass | Oregon.
Lewis & Clark Bank | Oregon City | Oregon.
Point West Credit Union | Portland | Oregon.
Willamette Valley Bank | Salem | Oregon.
Silver Falls Bank | Silverton | Oregon.
St. Helens Community FCU | St. Helens | Oregon.
TLC Federal Credit Union | Tillamook | Oregon.
Pacific West Bank | West Linn | Oregon.
State Bank of Southern Utah | Cedar City | Utah.
America West Bank | Layton | Utah.
Central Bank | Provo | Utah.
Lehman Brothers Commercial Bank | Salt Lake City | Utah.
Liberty Bank | Salt Lake City | Utah.
Merrill Lynch Bank USA | Salt Lake City | Utah.
Morgan Stanley Bank, National Association | Salt Lake City | Utah.
Proficio Bank | Salt Lake City | Utah.
University of Utah Federal Credit Union | Salt Lake City | Utah.
Jordan Federal Credit Union | Sandy | Utah.
Bank of Bellevue | Bellevue | Washington.
Foundation Bank | Bellevue | Washington.
Westsound Bank | Bremerton | Washington.
Business Bank of Skagit County | Burlington | Washington.
Coastal Community Bank | Everett | Washington.
Frontier Bank | Everett | Washington.
Mountain Pacific Bank | Everett | Washington.
MountainCrest Credit Union | Everett | Washington.
Shorebank Pacific | Ilwaco | Washington.
Issaquah Community Bank | Issaquah | Washington.
Northwest Commercial Bank | Lakewood | Washington.
Twin City Bank | Longview | Washington.
Weyerhaeuser | Longview | Washington.
City Bank | Lynnwood | Washington.
UniBank | Lynnwood | Washington.
Golf Savings Bank | Mountlake Terrace | Washington.
Thurston First Bank | Olympia | Washington.
Gesa Credit Union | Richland | Washington.
First Sound Bank | Seattle | Washington.
Prevail Credit Union | Seattle | Washington.
School Employees Credit Union of Washington | Seattle | Washington.
Numerica Credit Union | Spokane | Washington.
State Bank Northwest | Spokane | Washington.
Washington Trust Bank | Spokane | Washington.
Columbia State Bank | Tacoma | Washington.
Commencement Bank | Tacoma | Washington.
Harborstone Credit Union | Tacoma | Washington.
Pierce Commercial Bank | Tacoma | Washington.
Westside Community Bank | University Place | Washington.
Baker-Boyer National Bank | Walla Walla | Washington.
First National Bank of Buffalo | Buffalo | Wyoming.
Jonah Bank of Wyoming | Casper | Wyoming.
Cheyenne-Laramie County Employees FCU | Cheyenne | Wyoming.
Wyoming Bank & Trust | Cheyenne | Wyoming.
State Bank of Green River | Green River | Wyoming.
Summit National Bank | Hulett | Wyoming.
Bank of Commerce | Rawlins | Wyoming.

II. Public Comments

To encourage the submission of public comments on the community support performance of Bank members, on or before April 15, 2010, each Bank will notify its Advisory Council and nonprofit housing developers, community groups, and other interested parties in its district of the members selected for community support review in the 2008-09 eighth round review cycle. 12 CFR 1290.2(b)(2)(ii). In reviewing a member for community support compliance, FHFA will consider any public comments it has received concerning the member. 12 CFR 1290.2(d). To ensure consideration by FHFA, comments concerning the community support performance of members selected for the 2008-09 eighth round review cycle must be delivered to FHFA, either by hard-copy mail at the Federal Housing Finance Agency, Housing Mission and Goals, 1625 Eye Street, NW., Washington, DC 20006, or by electronic mail to hmgcommunitysupportprogram@fhfa.gov on or before the May 17, 2010 deadline for submission of Community Support Statements.

Dated: March 24, 2010.
Edward J. DeMarco,
Acting Director, Federal Housing Finance Agency.

[FR Doc. 2010-7215 Filed 3-31-10; 8:45 am]

BILLING CODE P